DEPARTMENT OF THE TREASURY

Internal Revenue Service

26 CFR Part 300

[REG-100718-21]

RIN 1545-BQ06

User Fees Relating to the Enrolled Agent Special Enrollment Examination and the Enrolled Retirement Plan Agent Special Enrollment Examination; Hearing Cancellation

AGENCY: Internal Revenue Service (IRS), Treasury.

ACTION: Cancellation of public hearing on proposed rulemaking.

SUMMARY: This document cancels a public hearing on proposed amendments to the regulations on user fees for the special enrollment examinations for enrolled agents and enrolled retirement plan agents.

DATES: The public hearing, originally scheduled for Tuesday, November 23, 2021 at 10:00 a.m. is cancelled.

FOR FURTHER INFORMATION CONTACT: Regina Johnson of the Publications and Regulations Branch, Legal Processing Division, Associate Chief Counsel (Procedure and Administration) at (202) 317-5177 (not a toll-free number) or at publichearings@irs.gov.

SUPPLEMENTARY INFORMATION: A notice of proposed rulemaking and notice of public hearing that appeared in the Federal Register on Wednesday, September 29, 2021 (86 FR 53893) announced that a public hearing to be held by teleconference was scheduled for Tuesday, November 23, 2021 at 10:00 a.m. The subject of the public hearing is under section 9701 of Title 31 of the United States Code.

The public comment period for these regulations expired on November 15, 2021. The notice of proposed rulemaking and notice of hearing instructed those interested in testifying at the public hearing to submit a request to speak and an outline of the topics to be discussed. Requests to speak and outlines were due on November 15, 2021. As of the end of the day on November 15, 2021, no one requested to speak. Therefore, the public hearing scheduled for November 23, 2021 at 10:00 a.m. is cancelled.

Oluwafunmilayo A. Taylor,
Branch Chief, Publications and Regulations Branch, Legal Processing Division, Associate Chief Counsel, Procedure and Administration).

[FR Doc. 2021-25419 Filed 11-22-21; 8:45 am]

BILLING CODE 4830-01-P